DEPARTMENT OF DEFENSE

Office of the Secretary

[Docket ID DoD-2013-HA-0107]

Submission for OMB Review; Comment Request

ACTION: Notice.

SUMMARY: The Department of Defense has submitted to OMB for clearance, the following proposal for collection of information under the provisions of the Paperwork Reduction Act.

DATES: Consideration will be given to all comments received by January 29, 2015.

FOR FURTHER INFORMATION CONTACT: Fred Licari, 571-372-0493.

SUPPLEMENTARY INFORMATION: Title, Associated Form and OMB Number: Patient Centered Medical Home (PCMH) Staff Satisfaction Survey; 0720-TBD.

Type of Request: New.

Number of Respondents: 3,105.

Responses per Respondent: 2.

Annual Responses: 6,210.

Average Burden per Response: 10 minutes.

Annual Burden Hours: 1,035.

Needs and Uses: The information collection requirement is necessary to measure satisfaction among staff at direct care military treatment facilities (MTFs) that have been identified as current or potential future PCMHs. The survey will ask staff members what new PCMH processes are or are not working well at the clinic. It will also ask about teamwork among staff at the clinic, the overall clinic environment, and what available resources are assisting them in their provision of quality patient centered care. Eligible staff include: Physicians, nurse practitioners, physician assistants, registered nurses, licensed practical nurses, corpsmen, and administrative staff. Over the next 5-7 years, the DoD will make a significant investment in this primary care transformation. By fielding a survey focused on primary care staff satisfaction, the MHS will be able to monitor our investment in PCMH and study how it affects our people. The goals of this survey effort are to assess staff satisfaction, attitudes and perceptions regarding the implementation of the Patient Centered Medical Home. Respondents will be all military, federal (GS/NSPS) and contracted medical professionals and support staff who work in PCMH clinics. The survey will be administered via a MHS/DoD platform that will capture response data. The survey will be administered via an online tool on a bi-annual basis to medical professionals and support staff. The population sample will receive a pre-notification, and reminder notifications to encourage participation.

Affected Public: Individuals and households; MTF contractor providers and support staff.

Frequency: Bi-annual.

Respondent's Obligation: Voluntary.

OMB Desk Officer: Mr. Josh Brammer.

Written comments and recommendations on the proposed information collection should be sent to Mr. Josh Brammer at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Mr. Frederick Licari.

Written requests for copies of the information collection proposal should be sent to Mr. Licari at WHS/ESD Directives Division, Information Collections Program, 4800 Mark Center Drive, East Tower, Suite 02G09, Alexandria, VA 22350-3100.

Dated: December 19, 2014.
Aaron Siegel,
Alternate OSD Federal Register Liaison Officer, Department of Defense.

[FR Doc. 2014-30245 Filed 12-29-14; 8:45 am]

BILLING CODE 5001-06-P